DEPARTMENT OF COMMERCE

International Trade Administration

[A-570-970]

Multilayered Wood Flooring From the People's Republic of China: Initiation of Antidumping Duty New Shipper Review; 2013-2014

AGENCY: Enforcement and Compliance, International Trade Administration, Department of Commerce.

SUMMARY: The Department of Commerce (“Department”) is initiating a new shipper review of the antidumping duty order on multilayered wood flooring from the People's Republic of China (“PRC”). The period of review (“POR”) for the new shipper review is December 1, 2013, through November 30, 2014.¹

¹ Pursuant to 19 CFR 351.214(g)(1)(i)(A), the POR for a new shipper review initiated in the month immediately following the anniversary month is the twelve-month period immediately preceding the anniversary month. However, this review is being initiated in accordance with an order entered by the US. Court of International Trade (“CIT”) on October 14, 2015. In that order, the CIT authorized the Department to initiate and conduct this new shipper review based upon Qingdao Barry's December 19, 2014 review request. Accordingly, we have used that submission to determine the POR. See 19 CFR 351.214(d)(1) (providing for initiation of new shipper reviews in the calendar month following the anniversary month if the request is made in the 6-month period ending in the anniversary month); 19 CFR 351.214(g)(1)(i)(A) (setting the POR for new shipper reviews initiated in the month following the anniversary month).

DATES: Effective Date: October 26, 2015.

FOR FURTHER INFORMATION CONTACT: Maisha Cryor or Robert Bolling, AD/CVD Operations, Office 4, Enforcement and Compliance, International Trade Administration, U.S. Department of Commerce, 14th Street and Constitution Avenue NW., Washington, DC 20230; telephone: 202-482-5831 or 202-482-3434, respectively.

SUPPLEMENTARY INFORMATION:

Background

The Department published the antidumping duty order on multilayered wood flooring from the PRC on December 8, 2011.² On December 19, 2014, the Department received a timely new shipper review request from Qingdao Barry Flooring Co., Ltd (“Qingdao Barry”),³ in accordance with section 751(a)(2)(B)(i) of the Tariff Act of 1930, as amended (“the Act”), and 19 CFR 351.214(c).

² See Multilayered Wood Flooring from the People's Republic of China: Amended Final Determination of Sales at Less Than Fair Value and Antidumping Duty Order, 76 FR 76690 (December 8, 2011) (“Order”), as amended Multilayered Wood Flooring from the People's Republic of China: Amended Antidumping and Countervailing Duty Orders, 77 FR 5484 (February 3, 2012).

³ See Letter from Qingdao Barry to the Secretary of Commerce “Multilayered Wood Flooring from China: Request for New Shipper Review,” dated December 19, 2014 (“Initiation Request”).

In its submission, Qingdao Barry certified that it is both the producer and exporter of the subject merchandise upon which its respective review request was based.⁴ Pursuant to section 751(a)(2)(B)(i)(I) of the Act and 19 CFR 351.214(b)(2)(i), Qingdao Barry certified that it did not export multilayered wood flooring to the United States during the period of investigation (“POI”).⁵ In addition, pursuant to section 751(a)(2)(B)(i)(II) of the Act and 19 CFR 351.214(b)(2)(iii)(A), Qingdao Barry certified that, since the initiation of the investigation, it has never been affiliated with any producer or exporter that exported multilayered wood flooring to the United States during the POI, including those not individually examined during the investigation.⁶ As required by 19 CFR 351.214(b)(2)(iii)(B), Qingdao Barry also certified that its export activities are not controlled by the central government of the PRC.⁷

⁴ See Initiation Request at Attachment 1.

⁵ Id.

⁶ Id.

⁷ Id.

In addition to the certifications described above, pursuant to 19 CFR 351.214(b)(2)(iv), Qingdao Barry submitted documentation establishing the following: (1) The date on which it first shipped multilayered wood flooring for export to the United States and the date on which the multilayered wood flooring was first entered, or withdrawn from warehouse, for consumption; (2) the volume of its first shipment and a statement that it made no subsequent shipments; and (3) the date of its first sale to an unaffiliated customer in the United States.⁸

⁸ Id. at Attachment 2.

The Department conducted U.S. Customs and Border Protection (“CBP”) database queries and confirmed that Qingdao Barry's shipment of subject merchandise had entered the United States for consumption and that liquidation of such entries had been properly suspended for antidumping duties. The Department also confirmed by examining CBP data that Qingdao Barry's entries were made during the POR specified by the Department's regulations.⁹

⁹ See Memorandum from Wendy Frankel, Director, Customs Liaison Unit, Enforcement and Compliance, To Abdelali Elouaradia, Director, AD/CVD Operations, Office IV, Enforcement and Compliance, Regarding “Confirmation of Entry—Multilayered Wood Flooring, From the People's Republic of China (A-570-970),” dated August 4, 2015 (“Customs Data”); see also Memorandum to the File entitled, “Initiation of Antidumping New Shipper Review of Multilayered Wood Flooring from the People's Republic of China: Qingdao Barry Flooring Co., Ltd. Initiation Checklist” (“Initiation Checklist”) dated concurrently with this notice.

Initiation of New Shipper Review

Pursuant to section 751(a)(2)(B) of the Act and 19 CFR 351.214(b), and after reviewing the information on the record, the Department finds that the request submitted by Qingdao Barry meets the threshold requirements for initiation of a new shipper review for the shipments of multilayered wood flooring from the PRC produced and exported by Qingdao Barry.¹⁰ However, if the information supplied by Qingdao Barry is later found to be incorrect or insufficient during the course of this proceeding, the Department may rescind the review or apply adverse facts available pursuant to section 776 of the Act, depending upon the facts on the record. The Department intends to issue the preliminary results of this new shipper review no later than 180 days from the date of initiation, and the final results no later than 90 days from the issuance of the preliminary results.¹¹

¹⁰ See Initiation Checklist.

¹¹ See section 751(a)(2)(B)(iv) of the Act. Due to the unique circumstances of this new shipper review, the Department's ability to grant extension requests will be limited. See Memorandum from Robert Bolling, Program Manager, AD/CVD Operations, Office IV, Enforcement and Compliance, To The File, Regarding “Deadline Extensions—Multilayered Wood Flooring, From the People's Republic of China, dated concurrently with this notice.

It is the Department's usual practice, in cases involving non-market economies, to require that a company seeking to establish eligibility for an antidumping duty rate separate from the country-wide rate provide evidence of de jure and de facto absence of government control over the company's export activities. Accordingly, the Department will issue a questionnaire to Qingdao Barry which will include a section requesting information with regard to the company's export activities for separate rates purposes. The review of the exporter will proceed if the response provides sufficient indication that it is not subject to either de jure or de facto government control with respect to its export of subject merchandise.

The Department will instruct CBP to allow, until the completion of the review, at the option of the importer, the posting of a bond or security in lieu of a cash deposit for each entry of the subject merchandise from Qingdao Barry, in accordance with section 751(a)(2)(B)(iii) of the Act and 19 CFR 351.214(e). Because Qingdao Barry certified that it produced and exported the subject merchandise, the Department will apply the bonding privilege only for subject merchandise that the respondent both produced and exported. To assist in its analysis of the bona fides of Qingdao Barry's sales, upon initiation of this NSR, the Department will require Qingdao Barry to submit on an ongoing basis complete transaction information concerning any sales of subject merchandise to the United States that were made subsequent to the POR.

Interested parties requiring access to proprietary information in this new shipper review should submit applications for disclosure under administrative protective order in accordance with 19 CFR 351.305 and 19 CFR 351.306.

This initiation and notice are in accordance with section 751(a)(2)(B) of the Act and 19 CFR 351.214 and 19 CFR 351.221(c)(1)(i).

Dated: October 20, 2015.
Christian Marsh,
Deputy Assistant Secretary for Antidumping and Countervailing Duty Operations.

[FR Doc. 2015-27156 Filed 10-23-15; 8:45 am]

BILLING CODE 3510-DS-P